DEPARTMENT OF THE TREASURY

Submission for OMB Review; Comment Request

September 24, 2013.

The Department of the Treasury will submit the following information collection requests to the Office of Management and Budget (OMB) for review and clearance in accordance with the Paperwork Reduction Act of 1995, Public Law 104-13, on or after the date of publication of this notice.

DATES: Comments should be received on or before October 28, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Alcohol and Tobacco Tax and Trade Bureau (TTB)

OMB Number: 1513-0086.

Type of Review: Extension without change of a currently approved collection.

Title: Marks on Equipment and Structures (TTB REC 5130/3) and Marks and Labels on Containers of Beer (TTB REC 5130/4).

Abstract: Marks, signs, and calibrations are necessary on equipment and structures for identifying major equipment for accurate determination of tank contents, and segregation of taxpaid and nontaxpaid beer. Marks and labels on containers or beer are necessary to inform consumers of container contents, and to identify the brewer and place of production.

Affected Public: Private sector: Businesses or other for-profits.

Estimated Annual Burden Hours: 1.

OMB Number: 1513-0117.

Type of Review: Revision of a currently approved collection.

Title: Pay.gov User Agreement.

Form: TTB F 5000.31.

Abstract: The Pay.gov User Agreement will be used to identify, validate, approve, and register qualified users to allow for submission of electronic forms using the Pay.gov system.

Affected Public: Private sector: Businesses or other for-profits.

Estimated Total Burden Hours: 117.

Dawn D. Wolfgang,
Treasury PRA Clearance Officer.

[FR Doc. 2013-23553 Filed 9-26-13; 8:45 am]

BILLING CODE 4810-31-P